DEPARTMENT OF AGRICULTURE

Forest Service

Information Collection; Volunteer Application and Agreement for Natural and Cultural Resources Agencies

AGENCY: Forest Service, USDA.

ACTION: Notice; request for comment.

SUMMARY: In accordance with the Paperwork Reduction Act of 1995, the Forest Service is seeking comments from all interested individuals and organizations on the extension with revision of a currently approved information collection entitled, Volunteer Application for Natural Resources Agencies.

DATES: Comments must be received in writing on or before December 11, 2017 to be assured of consideration. Comments received after that date will be considered to the extent practicable.

ADDRESSES: Comments concerning this notice should be addressed to Merlene Mazyck, Volunteers & Service, Forest Service, USDA, 201 14th St. SW., Washington, DC 20250-1125. Comments also may be submitted via email to: ncoyote@fs.fed.us.

The public may inspect comments received at Forest Service, USDA, 201 14th St. SW., Washington, DC during normal business hours. Visitors are encouraged to call ahead to 202-205-0650 to facilitate entry to the building.

FOR FURTHER INFORMATION CONTACT: Merlene Mazyck, Volunteers & Service, 202-205-0650. Individuals who use telecommunication devices for the deaf (TDD) may call the Federal Relay Service (FRS) at 1-800-877-8339, between 8 a.m. and 8 p.m., Eastern Standard time, Monday through Friday.

SUPPLEMENTARY INFORMATION:

Title: Volunteer Service Packet for Natural & Cultural Resources.

OMB Number: 0596-0080.

Expiration Date of Approval: 12/31/2017.

Type of Request: Extension with Revision.

Abstract: The collected information is needed by participating natural resources agencies to manage agency volunteer programs. Information is collected from potential and selected volunteers of all ages. Those under the age of 18 years must have written consent from a parent or guardian.

Participating Agencies

The volunteer programs of the following natural resource agencies are included:

Department of Agriculture: U.S. Forest Service, and Natural Resources Conservation Service;

Department of the Interior: National Park Service, U.S. Fish and Wildlife Service, Bureau of Land Management, Bureau of Reclamation, Bureau of Indian Affairs, Office of Surface Mining Reclamation and Enforcement, and U.S. Geological Survey;

Department of Defense: U.S. Army Corps of Engineers;

Department of Commerce: National Oceanic and Atmospheric Administration—Office of National Marine Sanctuaries.

Forms

OF-301 Volunteer Application: Individuals interested in volunteering may access the National Federal volunteer opportunities Web site (http://www.volunteer.gov), individual agency Web sites, and/or contact agencies to request a Volunteer Application (OF-301).

Applicants provide name, address, telephone number, age, preferred work categories, available dates, preferred location, indication of physical limitations, and lodging preferences. Information collected using this form assists agency volunteer coordinators and other personnel in matching volunteers with agency opportunities appropriate for an applicant's skills and physical condition and availability. Signature of a parent or guardian is mandatory for applicants under 18 years of age.

OF-301A Volunteer Service Agreement: This form is used by participating resource agencies to document agreements for volunteer services between a Federal agency and individual or group volunteers, including international volunteers. Signature of parent or guardian is mandatory for applicants under 18 years of age.

OF-301B Volunteer Group Sign-up: This form is used by participating resource agencies to document awareness and understanding by individuals in groups about the volunteer activities between a Federal agency and a partner organization with group participants. Signature of parent or guardian is mandatory for applicants under 18 years of age.

Estimate of Annual Burden: 15 minutes per form.

Type of Respondents: Individuals.

Estimated Annual Number of Respondents: 500,000.

Estimated Annual Number of Responses per Respondent: 2.5.

Estimated Total Annual Burden on Respondents: 125,000 hours.

Comment is invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: September 22, 2017.
Glenn Casamassa,
Associate Deputy Chief, National Forest System.

[FR Doc. 2017-21667 Filed 10-6-17; 8:45 am]

BILLING CODE 3411-15-P